NATIONAL AERONAUTICS AND SPACE ADMINISTRATION

[Notice 00-040]

Notice of Prospective Copyright License

AGENCY: National Aeronautics and Space Administration.

ACTION: Notice of prospective patent license.

SUMMARY: NASA hereby gives notice that Reality Capture Technologies, Inc., of San Jose, CA, has applied for a worldwide exclusive copyright license to ARC-14345, “MarsMap,” ARC-14326, “Mars Virtual Explorer Control Program,” and ARC-15008, “Postdoc,” which are assigned to the United States of America as represented by the Administrator of the National Aeronautics and Space Administration. Written objections to the prospective grant of a license should be sent to Ames Research Center.

DATES: Responses to this notice must be received by June 26, 2000.

FOR FURTHER INFORMATION CONTACT: Robert Padilla, Patent Counsel, NASA Ames Research Center, M/S 202A-3, Moffett Field, CA 94035-1000, (650) 604-5104.

Dated: April 24, 2000.
Edward A. Frankle,
General Counsel.

[FR Doc. 00-10497 Filed 4-26-00; 8:45 am]

BILLING CODE 7510-01-P